DEPARTMENT OF TRANSPORTATION

Federal Aviation Administration

14 CFR Part 39

[Docket No. 2003-NE-10-AD; Amendment 39-13286; AD 2003-17-11]

RIN 2120-AA64

Airworthiness Directives; Rolls-Royce Deutschland Ltd & Co KG Dart 528, 529, 529D, 531, 532, 535, 542, and 552 Series Turboprop Engines

AGENCY: Federal Aviation Administration (FAA), DOT.

ACTION: Final rule.

SUMMARY: The FAA is adopting a new airworthiness directive (AD) for Rolls-Royce Deutschland Ltd & Co KG (RRD) (formerly Rolls-Royce plc) Dart 528-7E, 529-7H, -7E, -8E, -8H, -8X, -8Y, -8Z, 529D-7E, -7H, -8E, -8H, -8X, -8Y, -8Z, 531, 532-2L, -7, -7N, -7P, -7L, -7R, 535-2, -7R, 542-4, -4K, -10, -10J, -10K, 552-2, 552-7, and -7R turboprop engines. This AD requires removal of any Sermetel coating (Omat 7/46) from certain high pressure (HP) turbine discs and intermediate pressure (IP) turbine discs, and inspection of discs after coating removal. This AD is prompted by reports of Sermetel coating (Omat 7/46) applied to certain turbine discs which, if allowed to remain on the discs would react adversely with the disc dry film lubricant, and could result in uncontained HP or IP turbine disc failure, resulting in possible damage to the airplane. We are issuing this AD to prevent uncontained HP or IP turbine disc failure, which could result in damage to the airplane.

DATES: This AD becomes effective September 30, 2003.

ADDRESSES: You may get the service information identified in this AD from Rolls-Royce Deutschland Ltd & Co KG, Eschenweg 11, D-15827 Dahlewitz, Germany; Tel: 49-33-7086-1768; Fax: 49-33-7086-3356.

You may examine the AD docket at the FAA, New England Region, Office of the Regional Counsel, 12 New England Executive Park, Burlington, MA.

FOR FURTHER INFORMATION CONTACT: James Lawrence, Aerospace Engineer, Engine Certification Office, FAA, Engine and Propeller Directorate, 12 New England Executive Park, Burlington, MA 01803-5299; telephone (781) 238-7176; fax (781) 238-7199.

SUPPLEMENTARY INFORMATION: The FAA proposed to amend 14 CFR Part 39 with a proposed AD. The proposed AD applies to RRD (formerly Rolls-Royce plc) Dart 528-7E, 529-7H, -7E, -8E, -8H, -8X, -8Y, -8Z, 529D-7E, -7H, -8E, -8H, -8X, -8Y, -8Z, 531, 532-2L, -7, -7N, -7P, -7L, -7R, 535-2, -7R, 542 -4, -4K, -10, -10J, -10K, 552-2, 552-7, and -7R turboprop engines. We published the proposed AD in the Federal Register on May 5, 2003 (68 FR 23620). That action proposed to require removal of any Sermetel coating (Omat 7/46) from certain HP turbine discs and IP turbine discs, and inspection of discs after coating removal.

Comments

We provided the public the opportunity to participate in the development of this AD. We received no comments on the proposal or on the determination of the cost to the public.

Conclusion

We have carefully reviewed the available data and determined that air safety and the public interest require adopting the AD as proposed.

Changes to 14 CFR Part 39—Effect on the AD

On July 10, 2002, the FAA published a new version of 14 CFR part 39 (67 FR 47997, July 22, 2002), which governs the FAA's AD system. That regulation now includes material that relates to altered products, special flight permits, and alternative methods of compliance. The material previously was included in each individual AD. Since the material is included in 14 CFR part 39, we will not include it in future AD actions.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-10-AD” in your request.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2003-17-11 Rolls-Royce Deutschland Ltd & Co KG: Amendment 39-13286. Docket No. 2003-NE-10-AD.

Effective Date

(a) This AD becomes effective September 30, 2003.

Affected ADs

(b) None.

Applicability

(c) This AD applies to Rolls-Royce Deutschland Ltd & Co KG (RRD) (formerly Rolls-Royce plc) Dart 528-7E, 529-7H, -7E, -8E, -8H, -8X, -8Y, -8Z, 529D-7E, -7H, -8E, -8H, -8X, -8Y, -8Z, 531, 532-2L, -7, -7N, -7P, -7L, -7R, 535-2, -7R, 542-4, -4K, -10, -10J, -10K, 552-2, 552-7, and -7R turboprop engines with a high pressure (HP) turbine disc or intermediate pressure (IP) turbine disc that has a serial number (SN) listed in Table 1 of this AD installed. These engines are installed on, but not limited to, BAE Systems (Operations) Limited, Model HS 748 Series 2A and 2B airplanes, Fokker Aircraft B.V., F.27 Friendship Mark 200, 400, 500, and 600 airplanes, Gulfstream Aerospace Corporation Model G-159 “Gulfstream I” airplanes, Maryland Air Industries, Inc. F-7F, F-27A, F-27G, F-27J, F-27M, FH-227B, FH-227C, FH-227D, and FH-227E airplanes, and Mitsubishi Heavy Industries, Ltd Model YS-11, YS-11A-200, YS-11A-300, YS-11A-500, and YS-11A-600 airplanes. Table 1 follows:

Table 1.—Affected Turbine Discs
Turbine disc serial number | Turbine disc stage | Date when coating was applied | Turbine disc cycles-since-new when coating was applied
DETN128 | HP | 31. Mar 01 | 4356
DETN155 | HP | 22. Jun 99 | 0
DETN3541 | HP | 17. Apr 01 | 2850
DETN3542 | HP | 16. Jan 01 | 6053
LA759 | HP | 27. Oct 00 | 5858
LP219 | HP | 23. Nov 99 | 6688
LW376 | HP | 21. Jul 99 | 3302
LX484 | HP | 22. Feb 00 | 4632
LZ299 | HP | 23. Dec 99 | 5839
LZ404 | HP | 13. Jul 01 | 630
LZ555 | HP | 30. Aug 00 | 2158
LZ564 | HP | 15. Mar 01 | 4204
SG612 | HP | 20. Apr 00 | 5735
SH195 | HP | 16. Dec 99 | 5349
DETN25 | IP | 30. Aug 00 | 2158
DETN238 | IP | 31. Mar 01 | 4356
DETN240 | IP | 18. Apr 01 | 0
DETN944 | IP | 04. Mar 00 | 2200
DETN2666 | IP | 17. Apr 01 | 2850
DETN5538 | IP | 16. Jul 01 | 630
DETN6400 | IP | 14. Apr 99 | 0
LA407 | IP | 22. Jun 00 | 5736
LA858 | IP | 27. Oct 00 | 5858
LB99 | IP | 13. Aug 99 | 9093
LE284 | IP | 24. Dec 99 | 5679
LN87 | IP | 10. May 99 | 5829
LP519 | IP | 23. Nov 99 | 6688
LW517 | IP | 22. Dec 99 | 5865
LX214 | IP | 09. Dec 00 | 6498
LX379 | IP | 22. Feb 00 | 4632
LZ248 | IP | 23. Dec 99 | 5839
LZ385 | IP | 17. Oct 01 | 9072
LZ603 | IP | 22. Jun 99 | 0
SG554 | IP | 20. Apr 00 | 5735
SH863 | IP | 16. Dec 99 | 5349

Unsafe Condition

(d) This AD is prompted by reports of Sermetel coating (Omat 7/46) applied to certain turbine discs which, if allowed to remain on the discs would react adversely with the disc dry film lubricant, causing uncontained HP or IP turbine disc failure, which could result in damage to the airplane. We are issuing this AD to prevent HP or IP turbine disc failure, which could result in damage to the airplane.

Compliance

(e) You are responsible for having the actions required by this AD performed within the compliance times specified unless the actions have already been done.

Determining if Action Is Required

(f) Within 60 days after the effective date of this AD, determine the SN of the HP turbine disc and the IP turbine disc. If none of the HP and IP turbine discs with SNs listed in Table 1 are installed in the engine, no further action is required.

(g) If one or more of the discs with SNs listed in Table 1 of this AD are installed in the engine, do the following:

(1) If the engine has had a full overhaul of the turbine after the shop visit at which the Sermetel coating (Omat 7/46) was applied, no further action is required.

(2) If only the HP turbine disc is listed in Table 1, and the engine has RRD Service Bulletin No. Da72-533, Revision 3, dated October 2001, incorporated, no further action is required.

Removal of Sermetel Coating and Disc Inspection

(3) Before accumulating 10,000 flight cycles since the coating was applied, completely remove Sermetel coating (Omat 7/46) from HP turbine discs and LP turbine discs. Information on coating removal can be found in RRD Overhaul Processes Manual, Overhaul Process 114.

(4) Visually inspect HP turbine discs and LP turbine discs, and return to service discs that pass inspection. Information on disc pass or fail inspection criteria can be found in the RRD Engine Overhaul Manual, Chapter 72-6-1.

Alternative Methods of Compliance

(h) Alternative methods of compliance must be requested in accordance with 14 CFR part 39.19, and must be approved by the Manager, Engine Certification Office, FAA.

Material Incorporated by Reference

(i) None.

Related Information

(j) The subject of this AD is addressed in LBA airworthiness directive LTA 2003-015, dated February 6, 2003.

Issued in Burlington, Massachusetts, on August 19, 2003.
Francis A. Favara,
Acting Manager, Engine and Propeller Directorate, Aircraft Certification Service.

[FR Doc. 03-21741 Filed 8-25-03; 8:45 am]

BILLING CODE 4910-13-P